DEPARTMENT OF TRANSPORTATION

Federal Aviation Administration

14 CFR Part 73

[Docket No. FAA-2013-1063; Airspace Docket No. 13-ASO-25]

RIN 2120-AA66

Amendment of Restricted Areas R-3008A, R-3008B, R-3008C, and R-3008D; Grand Bay Weapons Range, GA

AGENCY: Federal Aviation Administration (FAA), DOT.

ACTION: Final rule.

SUMMARY: This action amends the time of designation for restricted areas R-3008A, R-3008B, R-3008C, and R-3008D; Grand Bay Weapons Range, GA, by expanding the timeframe during which the areas may be activated without prior issuance of a Notice to Airmen (NOTAM). The expansion of the published designated times for these restricted areas reflects their routine actual use. This change better informs the flying public of actual routine use periods of the restricted areas and reduces NOTAM System workload.

DATES: Effective date 0901 UTC, April 22, 2021.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends restricted areas R-3008A, R-3008B, R-3008C, and R-3008D; Grand Bay Weapons Range, GA, by expanding the timeframe during which the areas may be activated reducing the need for the using agency to issue NOTAMs when necessary to activate the restricted areas outside the published “core hours.”

Background

The published time of designation for restricted areas R-3008A, R-3008B, R-3008C, and R-3008D is “0700-2200 local time, Monday-Friday; other times by NOTAM 6 hours in advance.” For many years, the using agency has routinely extended use of the restricted areas past the designated 2200 local time (as authorized by the NOTAM provision). To exercise this provision, the using agency must issue NOTAMs daily in order to activate the airspace beyond the published “core hours” (i.e., 0700-2200 local time). Amending the time of designation to match the routine, actual usage of the airspace reduces NOTAM System workload and better informs the flying public of expected times the restricted areas will be active.

History

The FAA published a notice of proposed rulemaking for Docket No. FAA-2013-1063 in the Federal Register (79 FR 6504; February 4, 2014), amending the time of designation for restricted areas R-3008A, R-3008B, R-3008C, and R-3008D; Grand Bay Weapons Range, GA.

Interested parties were invited to participate in this rulemaking effort by submitting written comments on the proposal. Two comments were received. Both commenters expressed support for the proposal.

Differences From the NPRM

The NPRM proposed to change the time of designation of restricted areas R-3008A, R-3008B, R-3008C, and R-3008D from “0700-2200 local time, Monday-Friday; other times by NOTAM 6 hours in advance,” to “0800-0130 local time, Monday-Thursday; 0700-2200 local time Friday; other times by NOTAM 6 hours in advance.” This rule amends the time of designation for Friday to read “0800-2200 local time; other times by NOTAM 6 hours in advance.”

The Rule

This action amends Title 14 Code of Federal Regulations (14 CFR) part 73 by changing the time of designation for restricted areas R-3008A, R-3008B, R-3008C, and R-3008D from “0700-2200 local time, Monday-Friday; other times by NOTAM 6 hours in advance,” to “0800-0130 local time, Monday-Thursday; 0800-2200 Friday; other times by NOTAM 6 hours in advance.” The change captures the vast majority of the routine operations currently occurring in the restricted areas. The amendment provides more accurate notice to the flying public of when to expect that the restricted areas will be in use. Additionally, it reduces the using agency's workload by eliminating the need to issue daily NOTAMs for routine operations.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the time of designation for restricted areas R-3008A, R-3008B, R-3008C, and R-3008D; Grand Bay Weapons Range, GA, to match the times that the areas are routinely activated outside the “core hours” through the issuance of a NOTAM qualifies for categorical exclusion under the National Environmental Policy Act and its implementing regulations at 40 CFR part 1500, and in accordance with FAA Order 1050.1F, Environmental Impacts: Policies and Procedures, paragraph 5-6.5c, actions to return all or part of special use airspace (SUA) to the National Airspace System (NAS), such as revocation of airspace, a decrease in dimensions, or a reduction in times of use (e.g., from continuous to intermittent, or use by a Notice to Airmen (NOTAM)). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 Georgia (Amended)

2. § 73.30 is amended as follows:

* * * * *

R-3008A, Grand Bay Weapons Range, GA [Amended]

By removing the current time of designation and inserting the following in its place:

Time of designation. 0800-0130 local time Monday-Thursday; 0800-2200 local time Friday; other times by NOTAM 6 hours in advance.

R-3008B, Grand Bay Weapons Range, GA [Amended]

By removing the current time of designation and inserting the following in its place:

Time of designation. 0800-0130 local time Monday-Thursday; 0800-2200 local time Friday; other times by NOTAM 6 hours in advance.

R-3008C, Grand Bay Weapons Range, GA [Amended]

By removing the current time of designation and inserting the following in its place:

Time of designation. 0800-0130 local time Monday-Thursday; 0800-2200 local time Friday; other times by NOTAM 6 hours in advance.

R-3008D, Grand Bay Weapons Range, GA [Amended]

By removing the current time of designation and inserting the following in its place:

Time of designation. 0800-0130 local time Monday-Thursday; 0800-2200 local time Friday; other times by NOTAM 6 hours in advance.

* * * * *

Issued in Washington, DC, on January 12, 2021.
George Gonzalez,
Acting Manager, Rules and Regulations Group.

[FR Doc. 2021-01021 Filed 2-24-21; 8:45 am]

BILLING CODE 4910-13-P